DEPARTMENT OF VETERANS AFFAIRS

Adjustments in Rates for Disability Compensation and Dependency and Indemnity Compensation

AGENCY: Department of Veterans Affairs.

ACTION: Notice.

SUMMARY: As required by the Veterans' Compensation Cost-of-Living Adjustment Act of 2002, Pub. L. 107-247, the Department of Veterans Affairs (VA) is hereby giving notice of adjustments in certain benefit rates. These adjustments affect the disability compensation and dependency and indemnity compensation (DIC) programs.

DATES: These adjustments are effective December 1, 2002, the date provided by Pub. L. 107-247.

FOR FURTHER INFORMATION CONTACT: Paul Trowbridge, Consultant, Compensation and Pension Service (212B), Veterans Benefits Administration, Department of Veterans Affairs, 810 Vermont Avenue, NW, Washington, DC 20420, (202) 273-7218.

SUPPLEMENTARY INFORMATION: Section 2 of Pub. L. 107-247 provides for an increase in each of the rates in sections 1114, 1115(1), 1162, 1311, 1313(a), and 1314 of title 38, United States Code. VA is required to increase these benefit rates by the same percentage as the percentage by which benefit amounts payable under title II of the Social Security Act are increased effective December 1, 2002. In computing increased rates in the cited title 38 sections, fractions of a dollar are rounded down to the nearest dollar. The increased rates are required to be published in the Federal Register.

The Social Security Administration has announced a 1.4 percent cost-of-living increase in Social Security benefits effective December 1, 2002. Therefore, applying the same percentage increase, the following rates for VA compensation and DIC programs will be effective December 1, 2002:

Disability Compensation (38 U.S.C. 1114)
Affected statute (evaluation) | Monthly rate
38 U.S.C. 1114(a) (10%) | $104
38 U.S.C. 1114(b) (20%) | $201
38 U.S.C. 1114(c) (30%) | $310
38 U.S.C. 1114(d) (40%) | $445
38 U.S.C. 1114(e) (50%) | $633
38 U.S.C. 1114(f) (60%) | $801
38 U.S.C. 1114(g) (70%) | $1,008
38 U.S.C. 1114(h) (80%) | $1,171
38 U.S.C. 1114(i) (90%) | $1,317
38 U.S.C. 1114(j) (100%) | $2,193
38 U.S.C. 1114(k) | $81; $2,728; $81; $3,827
38 U.S.C. 1114(l) | $2,728
38 U.S.C. 1114(m) | $3,010
38 U.S.C. 1114(n) | $3,425
38 U.S.C. 1114(o) | $3,827
38 U.S.C. 1114(p) | $3,827
38 U.S.C. 1114(r) | $1,643; $2,446
38 U.S.C. 1114(s) | $2,455

Additional Compensation for Dependents (38 U.S.C. 1115(1))
Affected statute | Monthly rate
38 U.S.C. 1115(1)(A) | $125
38 U.S.C. 1115(1)(B) | $215; 64
38 U.S.C. 1115(1)(C) | $85; 64
38 U.S.C. 1115(1)(D) | $101
38 U.S.C. 1115(1)(E) | $237
38 U.S.C. 1115(1)(F) | $198

Clothing Allowance (38 U.S.C. 1162)

$588 per year 1.

DIC to a Surviving Spouse (38 U.S.C. 1311)
Affected statute | Monthly rate
38 U.S.C. 1311(a)(1) | $948
38 U.S.C. 1311(a)(2) | 204
38 U.S.C. 1311(b) | 237
38 U.S.C. 1311(c) | 237
38 U.S.C. 1311(d) | 113

DIC to a Surviving Spouse (38 U.S.C. 1311(a)(3))
Pay grade | Monthly rate
E-1 | $948
E-2 | 948
E-3 | 948
E-4 | 948
E-5 | 948
E-6 | 948
E-7 | 980
E-8 | 1,035
E-9\1\ | 1,080
W-1 | 1,001
W-2 | 1,042
W-3 | 1,072
W-4 | 1,134
O-1 | 1,001
O-2 | 1,035
O-3 | 1,107
O-4 | 1,171
O-5 | 1,289
O-6 | 1,453
O-7 | 1,570
O-8 | 1,722
O-9 | 1,843
O-10\2\ | 2,021
¹ If the veteran served as Sergeant Major of the Army, Senior Enlisted Advisor of the Navy, Chief Master Sergeant of the Air Force, Sergeant Major of the Marine Corps, or Master Chief Petty Officer of the Coast Guard, the surviving spouse's monthly rate is $1,165.
² If the veteran served as Chairman or Vice Chairman of the Joint Chiefs of Staff, Chief of Staff of the Army, Chief of Naval Operations, Chief of Staff of the Air Force, Commandant of the Marine Corps, or Commandant of the Coast Guard, the surviving spouse's monthly rate is $2,168.

DIC to Children (38 U.S.C. 1313(a))
Affected statute | Monthly rate
38 U.S.C. 1313(a)(1) | $402
38 U.S.C. 1313(a)(2) | $578
38 U.S.C. 1313(a)(3) | $752
38 U.S.C. 1313(a)(4) | $752; $145

Supplemental DIC to Children (38 U.S.C. 1314)
Affected statute | Monthly rate
38 U.S.C. 1314(a) | $237
38 U.S.C. 1314(b) | 402
38 U.S.C. 1314(c) | 201

Dated: April 2, 2003.
Anthony J. Principi,
Secretary of Veterans Affairs.

[FR Doc. 03-8724 Filed 4-9-03; 8:45 am]

BILLING CODE 8320-01-P